DEPARTMENT OF TRANSPORTATION

National Highway Traffic Safety Administration

[Docket No. NHTSA-2014-0033]

Reports, Forms, and Record Keeping Requirements; Agency Information Collection Activity Under OMB Review

AGENCY: National Highway Traffic Safety Administration (NHTSA), Department of Transportation (DOT).

ACTION: Notice and request for comments.

SUMMARY: In compliance with the Paperwork Reduction Act of 1995 (44 U.S.C. 3501 et seq.), this notice announces that the Information Collection Request (ICR) abstracted below has been forwarded to the Office of Management and Budget (OMB) for review and comments. The ICR describes the nature of the information collection and its expected burden.

DATES: Written comments must be received on or before December 26, 2014.

ADDRESSES: Send comments to the Office of Information and Regulatory Affairs, Office of Management and Budget, 725 17th Street NW., Washington, DC 20503, Attention NHTSA Desk Officer.

FOR FURTHER INFORMATION CONTACT: For additional information or access to background documents, contact Lisa Gavin, Office of Crash Avoidance Standards (NVS-121), U.S. Department of Transportation, National Highway Traffic Safety Administration, West Building, W43-432, 1200 New Jersey Avenue SE., Washington, DC 20590. Email address: lisa.gavin@dot.gov. Ms. Gavin's telephone number is (202) 366-9291.

SUPPLEMENTARY INFORMATION: Before a Federal agency can collect certain information from the public, it must receive approval from the Office of Management and Budget (OMB). In compliance with these requirements, this notice announces that the following information collection request has been forwarded to OMB. A Federal Register notice soliciting comments on the following information collection was published on May 27, 2014 (79 FR 30230). No comments were received on that notice.

Title: Recruitment and Debriefing of Human Subjects for Research Related to Motor Vehicle Gear Selection Controls.

OMB Control Number: 2127—New.

Type of Request: New information collection.

Form Numbers: 1263 and 1264.

Requested Expiration Date of Approval: Three years from the approval date.

Abstract: The introduction of electronically-controlled transmissions has allowed much greater freedom in the design of driver interfaces, with the result that drivers are being confronted with new and different types of gear selector controls—joysticks, push buttons, rotary knobs, etc. This information collection is incidental to the recruitment of participants for human-factors studies designed to measure the ability of drivers to adapt to unfamiliar types of gear-selection controls. There is no known published usability research related to these new types of driver interfaces.

The proposed studies will examine driver response to non-traditional gear selector configurations in routine and emergency simulated driving scenarios, noting driver confusion, distraction and unintended consequences due to the unconventional gear selector configuration. The research method consists of driving simulations to collect objective and subjective data about six different gear selector types. Approximately 500 drivers will respond to the request for participants. It is estimated that of the 500 respondents, 360 will ultimately be recruited and participate. The estimated burden hours were calculated for the pre- and post-experiment questionnaires and for performing the driving tasks for the 500 respondents accordingly.

Participants will be tested individually in a driving simulator located at the Volpe National Transportation Systems Center (Volpe Center), which will conduct this research under an Intra-Agency Agreement (IAA) with NHTSA. The information being collected consists of that required for scheduling appointments and for balancing the subject sample across age groups, gender, and previous driving experience with various motor vehicle gear selector configurations. The experimental data will contain the demographic and past-experience descriptors for each participant, but no personally identifiable information. During or after the experimental sessions, participants may be queried regarding their perceptions and preferences about various aspects of gear-selection controls.

Affected Public: Participants for the driving simulator experiment will be selected from a list of eligible individuals who reside in the Boston area and have indicated to Volpe Center staff that they would like to participate in this experiment. All participants will be asked the same recruitment questions.

Respondents: Drivers with a valid driver license.

Estimated Number of Respondents: 500.

Estimated Number of Respondents Selected: 360.

Estimated Total Annual Burden: 595 hours (1 hour and 38 minutes per selected respondent and 3 minutes per respondent not selected.)

Frequency of Collection: One time.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.95.

R. Ryan Posten,
Associate Administrator for Rulemaking, National Highway Traffic Safety Administration.

[FR Doc. 2014-27884 Filed 11-24-14; 8:45 am]

BILLING CODE 4910-59-P